COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add products to the Procurement List that will be furnished by a nonprofit agency employing persons who are blind or have other severe disabilities, and delete products and services previously furnished by such agencies.

DATES: Comments must be received on or before: September 30, 2018.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the products listed below from a nonprofit agency employing persons who are blind or have other severe disabilities.

The following products are proposed for addition to the Procurement List for production by the nonprofit agency listed:

Products

NSN(s)—Product Name(s):

MR 1100—Set, Brush

MR 1110—Brush, Bottle

MR 13135—Tray, Ice Cube, No Spill

MR 13134—Container, Square, Pop, Small, 0.3 Qt.

MR 13133—Container, Rectangle, Pop, 2.5 Qt.

MR 13132—Container, Square, Pop, Small, 0.9 Qt.

MR 13131—Container, Rectangle, Pop, 1.5 Qt

MR 13130—Set, Bowl, Colander, Large, 3 pc

MR 13129—Set, Container, Plastic, 16 pc

MR 13128—Set, Bowl, Mixing, 3 pc

MR 13127—Colander, Plastic

MR 13126—Board, Cutting, Prep

MR 13125—Board, Cutting, Utility

MR 13124—Set, Clip, 8 pc

MR 13122—Box, Grater

MR 13121—Clips, Magnetic

MR 13120—Set, Container, Pop, 5pc

MR 1124—Basket, Suction, Sink, Steel

MR 1123—Mat Drying, Silicone, Large

MR 1122—Brush, Dish

MR 1119—Rack, Dish

MR 1118—Holder, Sponge

MR 1114—Mat, Sink, Small

MR 1112—Set, Cleaning, Water Bottle

MR 1111—Strainer, Sink

Mandatory Source of Supply: Cincinnati Association for the Blind, Cincinnati, OH

Mandatory for: The requirements of military commissaries and exchanges in accordance with the 41 CFR 51-6.4

Contracting Activity: Defense Commissary Agency

Distribution: C-List

Deletions

The following products and services are proposed for deletion from the Procurement List:

Products

NSN(s)—Product Name(s): 7510-01-484-0012—Paper Holder & Micro Note Holder

Mandatory Source of Supply: The Lighthouse for the Blind, Inc. (Seattle Lighthouse), Seattle, WA

Contracting Activity: GSA/FAS ADMIN SVCS ACQUISITION BR (2, NEW YORK, NY

NSN(s)—Product Name(s):

8010-00-935-6609—Enamel, Lacquer, Acrylic, Gloss White

8010-00-935-7064—Enamel, Lacquer, Acrylic, Gloss Red

Mandatory Source of Supply: The Lighthouse for the Blind, St. Louis, MO

Contracting Activity: Defense Logistics Agency Troop Support

NSN(s)—Product Name(s):

MR 10739—Herb Stripper, Includes Shipper 20739

MR 10738—Holder, Pot Lid and Utensil, Includes Shipper 20738

MR 10737—Snack Container, Licensed, Includes Shipper 20735

Mandatory Source of Supply: Winston-Salem Industries for the Blind, Inc., Winston-Salem, NC

Contracting Activity: Defense Commissary Agency

NSN(s)—Product Name(s):

7510-01-417-1220—Toner, Cartridges, New

Mandatory Source of Supply: Alabama Industries for the Blind, Talladega, AL

Contracting Activity: GSA/FAS ADMIN SVCS ACQUISITION BR (2, NEW YORK, NY

Services

Service Type: Linen Management Service

Mandatory for: Fleet and Industrial Supply Center, Norfolk, VA

Mandatory Source of Supply: Chesapeake Service Systems, Inc., Chesapeake, VA

Contracting Activity: DEPT OF THE NAVY, U.S. FLEET FORCES COMMAND

Service Type: Food Service Attendant Service

Mandatory for: U.S. Navy Cargo Handling and Port Group, Williamsburg, VA

Mandatory Source of Supply: VersAbility Resources, Inc., Hampton, VA

Contracting Activity: DEPT OF THE NAVY, U.S. FLEET FORCES COMMAND

Service Type: Administrative Service

Mandatory for: Quantico Marine Corps Base—Systems Command: 2033 Barnett Ave., Quantico, VA

Mandatory Source of Supply: Didlake, Inc., Manassas, VA

Contracting Activity: DEPT OF THE NAVY, U.S. FLEET FORCES COMMAND

Service Type: Mail and Messenger Service

Mandatory for: Naval Engineering Field Activity Chesapeake: Atlantic Division, Washington Navy Yard, Naval Facilities Engineering Command (NAVFACENGCOM), 851 Sicard Street NE, Washington, DC

Mandatory Source of Supply: ServiceSource, Inc., Oakton, VA

Contracting Activity: DEPT OF THE NAVY, U.S. FLEET FORCES COMMAND

Service Type: Custodial Service

Mandatory for: U.S. Army Corps of Engineers, Lake Michigan Area Office, 307 South Harbor Street, Grand Haven, MI

Mandatory Source of Supply: Kandu Industries, Inc., Holland, MI

Contracting Activity: DEPT OF THE ARMY, W072 ENDIST DETROIT

Service Type: Janitorial/Custodial Service

Mandatory for: Portsmouth Naval Shipyard: Buildings 153 & 170, Kittery, ME

Mandatory Source of Supply: Northern New England Employment Services, Portland, ME

Contracting Activity: DEPT OF THE NAVY, NAVY CRANE CENTER

Service Type: Janitorial/Custodial Service

Mandatory for: National Personnel Records Center: 111 Winnebago Street, St. Louis, MO

Mandatory Source of Supply: Challenge Unlimited, Inc., Alton, IL

Contracting Activity: GENERAL SERVICES ADMINISTRATION, FPDS AGENCY COORDINATOR

Service Type: Grounds Maintenance Service

Mandatory for: Vancouver Army Barracks, Vancouver, WA

Mandatory Source of Supply: Relay Resources, Portland, OR

Contracting Activity: DEPT OF THE ARMY, W6QM MICC CTR-FT DIX (RC)

Michael R. Jurkowski,
Business Management Specialist.

[FR Doc. 2018-19006 Filed 8-30-18; 8:45 am]

BILLING CODE 6353-01-P